DEPARTMENT OF JUSTICE

Notice of Lodging of Consent Decree Under the Clean Water Act

Notice is hereby given that on January 20, 2010, a proposed Consent Decree (“Decree”) in United States v. Pacific Pipeline Systems, LLC, Civil Action No. CV08-5768 DSF (Ssx) (C.D. Cal.) was lodged with the United States District Court for the Central District of California.

The civil action relates to an incident on March 23, 2005, when approximately 3,393 barrels of crude oil were discharged from the “Line 63” pipeline owned by Pacific Pipeline Systems LLC (“Pacific”). Some of the oil reached Pyramid Lake in the Angeles and Los Padres National Forest. In the civil action the United States sought to obtain civil penalties under 33 U.S.C. 1321(b)(7)(A), and injunctive relief under 33 U.S.C. 1319(b) against Pacific.

The proposed Decree would require Pacific to pay $1.3 million as a civil penalty, and to permanently purge and remove all oil from Line 63. However, Pacific is permitted to re-open Line 63 if it first relocates and buries several sections of the line, and institutes an enhanced integrity management program.

The Department of Justice will receive for a period of thirty (30) days from the date of this publication comments relating to the Decree. Comments should be addressed to the Assistant Attorney General, Environment and Natural Resources Division, and either e-mailed to pubcomment-ees.enrd@usdoj.gov or mailed to P.O. Box 7611, U.S. Department of Justice, Washington, DC 20044-7611, and should reference United States v. Pacific Pipeline Systems, LLC, Civil Action No. CV08-5768 DSF (Ssx) (C.D. Cal.) and DOJ Ref. No. 90-5-1-1-09019.

The Decree may be examined at the Office of the United States Attorney, 300 North Los Angeles Street, Room 7516, Los Angeles, CA 90012. During the public comment period, the Decree may also be examined on the following Department of Justice Web site: http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.75 (25 cents per page reproduction cost) payable to the U.S. Treasury or, if by e-mail or fax, forward a check in that amount to the Consent Decree Library at the stated address.

Maureen Katz,
Assistant Chief, Environmental Enforcement Section, Environment and Natural Resources Division.

[FR Doc. 2010-1397 Filed 1-25-10; 8:45 am]

BILLING CODE 1410-15-P